DEPARTMENT OF TRANSPORTATION

Coast Guard

33 CFR Part 165

[CGD09-01-005]

RIN 2115-AE84

Huntington Cleveland Harborfest: Regulated Navigation Area and Moving Safety Zones, Cuyahoga River and Cleveland Harbor, Cleveland, OH

AGENCY: Coast Guard, DOT.

ACTION: Temporary final rule.

SUMMARY: The Coast Guard will establish a temporary Regulated Navigation Area (RNA) during the Huntington Cleveland Harborfest event in the Port of Cleveland, OH. The Coast Guard will also establish a Moving Safety Zone in conjunction with the parade of ships as they transit Cleveland Harbor. These regulations are necessary to ensure the safe navigation of vessels and the safety of life and property during periods of heavy vessel traffic.

DATES: This rule is effective from July 11, 2001, until July 16, 2001.

ADDRESSES: Comments and material received from the public, as well as documents indicated in this preamble as being available in the docket, are part of docket (CGD09-01-005) and are available for inspection or copying at Coast Guard Marine Safety Office (MSO) Cleveland, 1055 East Ninth Street, Cleveland, Ohio, 44114, between 7 a.m. and 3:30 p.m., Monday through Friday, except Federal holidays.

FOR FURTHER INFORMATION CONTACT: Lieutenant John Natale, Chief Port Operations Department, Coast Guard MSO Cleveland (216) 937-0111.

SUPPLEMENTARY INFORMATION:

Regulatory Information

On March 22, 2001, we published a notice of proposed rulemaking (NPRM) entitled Cleveland Harborfest: Regulated Navigation Area and Moving Safety Zones, Cuyahoga River and Cleveland Harbor, Cleveland, OH in the Federal Register (66 FR 16020). We received no letters commenting on the proposed rule. No public hearing was requested and none was held.

Under 5 U.S.C. 553 (d)(3), the Coast Guard finds that good cause exists for making this rule effective less than 30 days after publication in the Federal Register. A 30 day delay in the effective date is unnecessary because the public was put on notice of our intent to establish a regulated navigation area in conjunction with the Huntington Cleveland Harborfest when we published our NPRM on March 22, 2001. Additionally, this rule will not go into effect until approximately three weeks after publication, which provides additional notice to the public.

A 30 day delay in the effective period would also be contrary to the public interest. These regulations are needed to ensure the safety of life and property during the Harborfest event, which is scheduled for July 11, 2001, through July 16, 2001.

Background and Purpose

During the Huntington Cleveland Harborfest, tall ships will moor at the Cleveland Port Authority in Cleveland Harbor. A RNA will be established on the Cuyahoga River in the area of the Flats from 12 p.m. July 11, 2001, until 1 p.m. July 16, 2001. Although the tall ships will not be moored in the Cuyahoga River, this area is known for commercial and recreational congestion. With the anticipated increase in boaters during the event, the Coast Guard wants to make sure navigation on the river remains open. The RNA establishes a traffic pattern, limits docking in the Flats area of the Cuyahoga River, and asks commercial vessels in the harbor and rivers to report traffic conditions so vessel traffic throughout the Cleveland area may be managed. The portion of the Cuyahoga River between the Norfolk & Southern Number One Lift Bridge and Nautica Stage is the area to be designated as an RNA.

On Wednesday, July 11, 2001 at 3:30 p.m. a parade of 12 ships under sail with several other vessels will mark the beginning of Huntington Cleveland Harborfest 2001. The parade will start just outside the main ship channel. The vessels will enter Cleveland Harbor and proceed east along the waterfront past Burke Lakefront Airport. They will then exit the harbor at the eastern end of the breakwall, make a loop and return through the eastern end and proceed to the Cleveland port Authority where they will moor at approximately 6:30 p.m. To help the parade participants navigate safely along the parade route, no one will be allowed to enter a Moving Safety Zone around the parade of vessels.

The Moving Safety Zone will include the areas around and between all the vessels participating in the parade. The Moving Safety Zone will include the area within and bounded by an imaginary boundary extending a distance of 100 yards ahead of the line of vessels in the parade, 50 yards abeam each vessel and the line formed by the parade of vessels, and 50 yards astern of the last vessel in the parade. The Safety Zone will ensure that spectator craft do not impede the path of any of the parade vessels.

The vessel congestion due to the large number of participating and spectator vessels poses a significant threat to the safety of life. This rulemaking is necessary to ensure the safety of life on the navigable waters of the United States.

Discussion of Rule

During this event, tall ships will moor at the Cleveland Port Authority in Cleveland Harbor. The portion of the Cuyahoga River between the Norfolk & Southern Number One Lift Bridge and Nautica Stage is the area to be designated as a RNA, since this very narrow area of the river is expected to contain heavy recreational vessel traffic and commercial freighter traffic. All recreational vessels shall remain on the west bank of the river channel during southbound transits and on the east bank during northbound transits. Recreational vessels will be required to proceed at no-wake speed; maintain headway conditions permitting; and will not be allowed to cross the center of the channel except at the northern and southern ends of the RNA. The provision restricting recreational vessels from crossing the channel centerline does not apply to vessels getting underway from a berth within the RNA, or to vessels outbound from the Old River. The permanent Safety Zones currently in effect on the Cuyahoga River (33 CFR 165.903) remain unchanged. However, in addition to those, recreational vessels will not be allowed to moor more than six vessels abeam anywhere in the RNA, including in the safety zones within the RNA, and must depart the area when directed. Recreational vessels docking in the RNA may maneuver to do so, but shall not linger awaiting availability of a mooring. Permission to deviate from the above rules must be obtained from the Coast Guard Captain of the Port or his representative at (216)-937-0111 any time before July 11, 2001, and during the event (July 11-16) by contacting “Coast Guard Cuyahoga River Traffic” by VHF/FM radio Channel 6 or by telephone at (216) 695-9794. Commercial vessels will be allowed to transit the center of the channel and may be assisted by the Coast Guard in determining congestion and, if required, the Coast Guard may clear recreational traffic. All commercial vessels must contact “Coast Guard Cuyahoga River Traffic” on VHF/FM radio Channel 6 at least 30 minutes before entering the RNA.

In order to ensure vessel safety, a Moving Safety Zone will be in effect for the vessels participating in the Tall Ships Parade of Sails, which will be held upon their arrival in Cleveland on Wednesday, July 11, 2001. The Moving Safety Zone will be in effect around the vessels participating in the parade. The Moving Safety Zone will begin at 3:30 p.m. on Wednesday, July 11, 2001 at mustering point 41°31′30″ N, 081°45′00″ W, in Lake Erie approximately two miles northwest of the Cleveland Harbor West Pierhead light. The parade will begin at 3:30 p.m. on Wednesday, July 11, 2001 at the mustering point. The parade will proceed eastward to position 41°31′30″ N, 081°43′47″ W, then proceed southeastward to position 41°30′21″ N, 081°42′48″ W inside the Cleveland breakwall. The parade will continue northeastward on the inside of the breakwall to position 41°32′39″ N, 081°38′45″ W. The parade will then proceed northwestward into Lake Erie to position 41°33′27″ N, 081°39′06″ W, then northeastward to position 41°33′27″ N, 081°38′36″ W, and then southward back to the breakwall at position 41°32′45″ N, 081°38′36″ W. The parade will continue soutwestward inside of the breakwall to position 41°30′45″ N, 081°42′00″ W, and the parade vessels will then moor in the vicinity of Cleveland Port Authority Dock Number 32. The Moving Safety Zone will terminate at Cleveland Port Authority Dock Number 32 at 7 p.m. on Wednesday, July 11, 2001.

Discussion of Comments and Changes

The Coast Guard received no letters commenting on the proposed rulemaking. The Coast Guard made the following changes to this rulemaking:

The event name changed from “Cleveland Harborfest” to “Huntington Cleveland Harborfest.”

Permission for vessels to coordinate transits in or in the vicinity of the moving safety zone and the parade route must be obtained from the Captain of the Port or his representative by VHF/FM radio, Channel 81, vice channel 6.

The parade course will be slightly shorter than the parade route published in the NPRM. After the vessels exit the breakwall and head northwest, they will make a northeastward turn at point 41°33′27″ N, 081°39′06″ W, vice 41°32′45″ N, 081°38′36″ W. The course will proceed to 41°33′27″ N, 081°38′36″ W, vice 41°35′18″ N, 081°38′39″ W. The shortened course will allow the parade to be completed in a shorter period of time.

Several of the other parade coordinates were slightly adjusted to allow for better course alignment.

The telephone number to contact the Coast Guard during the parade for vessels to coordinate transits in or in the vicinity of the moving safety zone and the parade route is (216) 695-9794 vice (216) 701-8389.

Vessels entering the Cuyahoga River to transit through the RNA should make the radio call “Coast Guard Cuyahoga River Traffic” vice “Coast Guard Cleveland Harbor Traffic.” The new radio call will avoid confusion with Coast Guard Station Cleveland Harbor's radio calls.

The parade will begin at 3:30 p.m. vice 3 p.m. on July 11, 2001.

The moving safety zone will begin at 3:30 p.m. vice 1 p.m. on July 11, 2001.

The RNA will begin at 12 p.m. vice 4 p.m. on July 11, 2001.

The RNA will terminate at 1 p.m. vice 4 p.m. on July 16, 2001.

Regulatory Evaluation

This rule is not a significant regulatory action under section 3(f) of Executive Order 12866 and does not require an assessment of potential costs and benefits under section 6(a)(3) of that Order. The Office of Management and Budget has not reviewed it under that Order. It is not significant under the regulatory policies and procedures of the Department of Transportation (DOT) (44 FR 11040; February 26, 1979).

We expect the economic impact of this rule to be so minimal that a full Regulatory Evaluation under paragraph 10e of the regulatory policies and procedures of DOT is unnecessary. The RNA and Moving Safety Zones will be in effect for a limited time, and extensive advance notice will be made to the maritime community via Local Notice to Mariners, facsimile, and marine safety information broadcasts. These temporary regulations are tailored to impose a minimal impact on maritime interests without compromising safety. Compensating for any adverse impacts are the favorable economic impacts that these events will have on commercial activity in the area as a whole from the boaters and tourists these events are expected to attract.

Small Entities

Under the Regulatory Flexibility Act (5 U.S.C. 601-612), we considered whether this rule would have a significant economic impact on a substantial number of small entities. The term “small entities” comprises small businesses, not-for-profit organizations that are independently owned and operated and are not dominant in their fields, and governmental jurisdictions with populations of less than 50,000.

The Coast Guard certifies under 5 U.S.C. 605(b) that this rule will not have a significant economic impact on a substantial number of small entities. This rule will affect the following entities, some of which might be small entities: the owners of businesses along the regulated portion of Cuyahoga River, and the owners or operators of vessels intending to transit in the regulated portion of the Cuyahoga River or Cleveland Harbor from 12 p.m. on Wednesday, July 11, 2001 through 12 p.m. on Monday, July 16, 2001. This rule will not have a significant economic impact on a substantial number of small entities for the following reasons: The rule will be in effect for a short time, and though it will apply to the entire width of the river or harbor channel, commercial traffic will be allowed to pass through with the permission of the Coast Guard Patrol Commander. Before the effective period, we will issue an extensive advance notice of the event to the maritime community via Local Notice to Mariners, facsimile, marine safety information broadcasts, and through the local Harbor Safety Committee.

Assistance for Small Entities

Under Section 213(a) of the Small Business Regulatory Enforcement Fairness Act of 1996 (Public Law 104-121), we offered to assist small entities in understanding the rule so that they could better evaluate its effects on them and participate in the rulemaking process. However, we received no requests for assistance from small entities.

Small businesses may send comments on the actions of Federal employees who enforce, or otherwise determine compliance with, federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

Collection of Information

This rule calls for no new collection of information under the Paperwork Reduction Act of 1995 (44 U.S.C. 3501-3520).

Federalism

We have analyzed this rule under Executive Order 13132 and have determined that this rule does not have implications for federalism under that Order.

Unfunded Mandates Reform Act

The Unfunded Mandates Reform Act of 1995 (2 U.S.C. 1531-1538) governs the issuance of Federal regulations that require unfunded mandates. An unfunded mandate is a regulation that requires a State, local or tribal government or the private sector to incur direct costs without the Federal Government's having first provided the funds to pay those costs. This rule will not impose an unfunded mandate.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not concern an environmental risk to health or risk to safety that may disproportionately affect children.

Indian Tribal Governments

This rule does not have tribal implications under Executive Order 13175, Consultation and Coordination with Indian Tribal Governments. A rule with tribal implications has a substantial direct effect on one or more Indian tribe, on the relationship between the Federal Government and Indian tribes, or on the distribution of power and responsibilities between the Federal Government and Indian tribes.

Energy Effects

We have analyzed this proposed rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. It has not been designated by the Administrator of the Office of Information and Regulatory Affairs as a significant energy action. Therefore, it does not require a Statement of Energy Effects under Executive Order 13211.

Environment

We considered the environmental impact of this rule and concluded that under figure 2-1, paragraph 34(g) and (h), and paragraph 35(a) of Commandant Instruction M16475.1C, this rule is categorically excluded from further environmental documentation. This rule will not cause significant impacts on the environment; significantly change existing environmental conditions; have more than a minimal impact on protected properties; or provide inconsistencies with State, local or Federal laws. A “Categorical Exclusion Determination” is available in the docket where indicated under ADDRESSES.

List of Subjects in 33 CFR Part 165

Harbors, Marine safety, Navigation (water), Reporting and recordkeeping requirements, Waterways.

For the reasons discussed in the preamble, the Coast Guard amends 33 CFR Part 165 as follows:

PART 165—REGULATED NAVIGATION AREAS AND LIMITED ACCESS AREAS

1. The authority citation for Part 165 continues to read as follows:

Authority: 33 U.S.C. 1231; 50 U.S.C. 191; 33 CFR 1.05-1(g), 6.04-1, 6.04-6, and 160.5; 49 CFR 1.46.

2. Add temporary § 165.T09-005 to read as follows:

§ 165.T09-005 Regulated Navigation Area: Huntington Cleveland Harborfest, Cuyahoga River, Cleveland, Ohio.

(a) Location: The following area is a Regulated Navigation Area (RNA): All waters on the Cuyahoga River between the Norfolk and Southern Number One lift bridge, river mile 0.76, and Nautica Stage, Cleveland, Ohio as shown in Figure 1.

(b) Effective Date: These regulations are in effect from 12 p.m. on Wednesday, July 11, 2001 through 1 p.m. on Monday, July 16, 2001.

(c) Regulations: (1) Recreational vessels within the RNA shall remain on the west bank of the river channel during southbound transits and on the east bank during northbound transits.

(2) Recreational vessels shall proceed at no-wake speed; maintain headway conditions permitting; and will not cross the center of the channel except at the northern and southern ends of the RNA. The provision restricting recreational vessels from crossing the channel centerline does not apply to vessels getting underway from a berth within the RNA, or to vessels outbound from the Old River.

(3) The permanent safety zones currently in effect on the Cuyahoga River (33 CFR 165.903) remain unchanged. In addition, recreational vessels may not moor more than six vessels abeam anywhere in the RNA, and must depart the area when directed. These additional mooring and departure requirements apply to all vessels within the RNA, including those moored under pre-existing waivers granted under 33 CFR 165.903(b)(3). Recreational vessels docking in the RNA may maneuver to do so, but shall not linger awaiting availability of a mooring. Permission to deviate from the above rules must be obtained from the Coast Guard Captain of the Port or his representative at (216)-937-0111 any time before July 11, 2001, and during the event (July 11-16) by contacting “Coast Guard Cuyahoga River Traffic” by VHF/FM radio Channel 6 or by telephone at (216) 695-9794.

(4) Commercial vessels will be allowed to transit the center of the channel and may be escorted by a Coast Guard vessel. All commercial vessels must contact “Coast Guard Cuyahoga River Traffic” on VHF/FM radio Channel 6 at least 30 minutes before entering the RNA.

BILLING CODE 4910-15-U

BILLING CODE 4910-15-C

3. Add temporary § 165.T09-006 to read as follows:

§ 165.T09-006 Moving Safety Zones: Huntington Cleveland Harborfest, Cleveland Harbor and Lake Erie, Cleveland, Ohio.

(a) Location: The waters of Cleveland Harbor and Lake Erie, Cleveland, Ohio.

(b) Effective Date: These regulations are in effect from 3:30 p.m. until 7 p.m. on Wednesday, July 11, 2001.

(c) Regulations. (1) The following areas are designated as Moving Safety Zones: All waters within and bounded by an imaginary boundary extending a distance of 100 yards ahead of the line of vessels in the parade, 50 yards abeam each vessel and the line formed by the parade of vessels, and 50 yards astern of the last vessel in the parade. The Moving Safety Zone will be in effect around the vessels participating in the parade. The Moving Safety Zone and parade will begin at 3:30 p.m. on Wednesday, July 11, 2001 at mustering point 41°31′30″ N, 081°45′00″ W, in Lake Erie approximately two miles northwest of the Cleveland Harbor West Pierhead light. The parade will proceed eastward to position 41°31′30″ N, 081°43′47″ W, then proceed southeastward to position 41°30′21″ N, 081°42′48″ W inside the Cleveland breakwall. The parade will continue northeastward on the inside of the breakwall to position 41°32′39″ N, 081°38′45″ W. The parade will then proceed northwestward into Lake Erie to position 41°33′27″ N, 081°39′06″ W, then northeastward to position 41°33′27″ N, 081°38′36″ W, and then southward back to the breakwall at position 41°32′45″ N, 081°38′36″ W. The parade will continue soutwestward inside of the breakwall to position 41°30′45″ N, 081°42′00″ W, and the parade vessels will then moor in the vicinity of Cleveland Port Authority Dock Number 32. The Moving Safety Zone will terminate at Cleveland Port Authority Dock Number 32 at 7 p.m. on Wednesday, July 11, 2001.

(2) All vessel operators shall comply with the instructions of the U.S. Coast Guard Captain of the Port Cleveland, Ohio, or the designated on-scene U.S. Coast Guard patrol personnel including commissioned, warrant, and petty officers. Permission for vessels to coordinate transits in or in the vicinity of the moving safety zone and the parade route must be obtained from the Captain of the Port or his representative by VHF/FM radio, Channel 81 or by telephone at (216) 695-9794.

Dated: June 13, 2001.
James D. Hull,
Rear Admiral, U.S. Coast Guard, Commander, Ninth Coast Guard District, Cleveland, Ohio

[FR Doc. 01-15394 Filed 6-18-01; 8:45 am]

BILLING CODE 4910-15-U